DEPARTMENT OF COMMERCE

National Oceanic and Atmospheric Administration

Meeting of the Chairs of the National Marine Sanctuary Program's Sanctuary Advisory Councils

AGENCY: National Marine Sanctuary Program (NMSP), National Ocean Service (NOS), National Oceanic and Atmospheric Administration, Department of Commerce (DOC).

ACTION: Notice.

SUMMARY: The National Marine Sanctuary Program (NMSP) is holding a meeting of the Chairs of its eleven site-specific Sanctuary Advisory Councils (Councils). The purpose of the meeting is to obtain recommendations from the Chairs on the prioritization of a list of policy topics that should be addressed on a programmatic basis and, if time permits, to obtain advice on what actions could be taken to address the most important policy topics. The meeting will be open to the public. Opportunities for public comment will be provided at 9 and 4 on a first-come, first-serve basis. Members of the public wishing to provide comments will be asked to sign up upon arrival and will likely be limited in how much time they will be allotted for comments (depending upon how many people have signed up). A maximum of fifteen minutes will be allotted at 9 and again at 4 for public comments.

DATES: The meeting will be held on Thursday, February 20, 2003, from 8:30 to 4:15. Opportunities for public comment will be provided at 9 and 4.

ADDRESSES: The meeting will be held at Chase Palm Park Center, 236 East Cabrillo Boulevard, Santa Barbara, California.

FOR FURTHER INFORMATION CONTACT: Elizabeth Moore at (301) 713-3125 ext. 170 (elizabeth.moore@noaa.gov) or Karen Brubeck at (206) 842-9074 (karen.brubeck@noaa.gov).

SUPPLEMENTARY INFORMATION: The National Marine Sanctuaries Act (NMSA) authorizes the Secretary of Commerce to establish one or more Advisory Councils to provide advice to the Secretary regarding the designation and management of National Marine Sanctuaries. Eleven Councils exist, for the Channel Islands, Cordell Bank, Florida Keys, Gray's Reef, Gulf of the Farallones, Hawaiian Islands Humpback Whale, Monterey Bay, Olympic Coast, Stellwagen Bank, and Thunder Bay Sanctuaries and the Northwestern Hawaiian Islands Coral Reef Ecosystem Reserve and proposed Sanctuary. Councils represent a wide variety of community interests and are active in various projects and issues affecting the management of their local Sanctuaries; Councils generally meet on a monthly or bimonthly basis.

Each year, the NMSP hosts a meeting for all the Council Chairs and Coordinators to discuss projects and topics of mutual interest (2003's meeting will be the third such meeting). This year, for the first time, the Chairs are being asked to provide advice to the national program leadership on policy topics important on a programmatic rather than a site-specific level. The Chairs will provide this advice only during the meeting announced by this notice, and will not become a permanent national advisory body.

Authority: 16 U.S.C. section 1431 et seq.

(Federal Domestic Assistance Catalog Number 11.429 Marine Sanctuary Program)
Dated: January 21, 2003.
Jamison S. Hawkins,
Acting Assistant Administrator for Ocean Services and Coastal Zone Management.

[FR Doc. 03-2022 Filed 1-28-03; 8:45 am]

BILLING CODE 3510-08-M